DEPARTMENT OF STATE

[Public Notice: 10979]

Commission on Unalienable Rights; Notice of Open Meeting

The Commission on Unalienable Rights (“Commission”) will meet from 1:15 until 5:30 p.m., on Friday, January 10 at the Department of State in Washington, DC. Participants are asked to use the 23rd Street entrance of the Harry S. Truman Building to gain access to the meeting. The meeting will be directed by the Chair of the Commission and Learned Hand Professor of Law at Harvard Law School, Mary Ann Glendon. The Commission serves the U.S. government in a solely advisory capacity and provides advice concerning principles related to human rights. The January 10 meeting will focus on international legal commitments concerning human rights that the United States has entered since World War II. This meeting follows the December 11 meeting on the same topic.

This meeting is open to the public. Entry to the building is controlled. To obtain pre-clearance for entry, members of the public planning to attend must, no later than January 2, provide their full name and email address to the RSVP email address at RSVPCommission@state.gov. Non-Department of State attendees should also provide date of birth and identifying data (driver's license or passport number). Requests for reasonable accommodation should be made at the same time as the notification. Late requests will be considered but might not be possible to fulfill.

This information is being collected pursuant to 22 U.S.C. 2651a and 22 U.S.C. 4802 for the purpose of screening and pre-clearing participants to enter the host venue at the U.S. Department of State, in line with standard security procedures for events of this size. The Department of State will use this information consistent with the routine uses set forth in the System of Records Notices for Protocol Records (State-33) and Security Records (State-36). See https://www.state.gov/system-of-records-notices-privacy-office/. Provision of this information is voluntary, but failure to provide accurate information may impede your ability to register for the event. Email addresses are collected for purposes of notification should the meeting be postponed or cancelled due to weather or other exigencies.

Please see https://www.state.gov/commission-on-unalienable-rights for the commissioners' biographies, read-ahead materials (if available), and Commission-related documents. To communicate with the Commission, the public may submit materials in advance of the meeting to commission@state.gov, or mail to: U.S. Department of State, ATTN: Duncan Walker, HST 7312, 2201 C Street NW, Washington, DC 20520.

In addition, there will be microphones in the audience for questions and comments during the Q&A portion of the meeting, as well as a table to leave written documents with the Commission.

For additional information, contact Duncan Walker, Policy Planning Staff, at (202) 647-2236, or walkerdh3@state.gov.

Duncan H. Walker,
Designated Federal Officer, U.S. Department of State.

[FR Doc. 2019-27473 Filed 12-19-19; 8:45 am]

BILLING CODE 4710-10-P